INTERNATIONAL TRADE COMMISSION

[Investigation No. 701-TA-364 (Second Review)]

Oil Country Tubular Goods From Italy

AGENCY: United States International Trade Commission.

ACTION: Termination of review.

SUMMARY: On December 26, 2006, the Department of Commerce (“Commerce”) published notice in the Federal Register of its determination that revocation of the countervailing duty (“CVD”) order on oil country tubular goods (“OCTG”) from Italy would not be likely to lead to continuation or recurrence of a countervailable subsidy. Commerce further stated that it was revoking the CVD order on OCTG from Italy (71 FR 77383) effective July 25, 2006. Accordingly, pursuant to section 751(c) of the Tariff Act of 1930 (19 U.S.C. 1675(c)), the five-year review of the countervailing duty order concerning OCTG from Italy (investigation No. 701-TA-364 (Second Review)) is terminated.

DATES: Effective Date: December 26, 2006.

FOR FURTHER INFORMATION CONTACT: Fred Ruggles (202-205-3187 or fruggles@usitc.gov), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

Authority: This five-year review is being terminated under authority of title VII of the Tariff Act of 1930; this notice is published pursuant to § 207.69 of the Commission's rules (19 CFR 207.69).

By order of the Commission.
Issued: January 8, 2007.
Marilyn R. Abbott,
Secretary to the Commission.

[FR Doc. E7-260 Filed 1-10-07; 8:45 am]

BILLING CODE 7020-02-P